ENVIRONMENTAL PROTECTION AGENCY

[FRL-6863-2]

Agency Information Collection Activities: Submission for OMB Review; Comment Request

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: State Clean Air Act Section 507 Program Cooperative Agreement Outreach Pilot Program Evaluation, ICR No. 1958.01; this is a new collection. This generic ICR describes the nature of the information collection and its expected burden and cost.

DATES: Comments must be submitted on or before October 2, 2000.

ADDRESSES: Send comments, referencing ICR No. 1958.01, to the following address: Sandy Farmer, U.S. Environmental Protection Agency, Collection Strategies Division (Mail Code 2822), 1200 Pennsylvania Avenue, NW, Washington, DC 20460: and to the Office of Information and Regulatory Affairs, Office of Management and Budget (OMB), Attention: Desk Officer for EPA, 725 17th Street, N.W., Washington, DC 20503.

FOR FURTHER INFORMATION CONTACT: For a copy of the ICR contact Sandy Farmer at EPA by phone at (202) 260-2740, by e-mail at farmer.sandy@epa.gov, or download off of the Internet at http://www.epa.gov/icr and refer to EPA ICR No. 1958.01. For technical questions about the ICR contact Karen V. Brown, at EPA, by telephone (202) 260-1390, via FAX on (202) 401-2302 or, by e-mail brown.karen@epa.gov.

SUPPLEMENTARY INFORMATION: Title: State Clean Air Act Section 507 Program Cooperative Agreement Demonstration Outreach Pilot Program Evaluation; EPA ICR No. 1958.01 (new collection).

Abstract: The EPA Office of the Small Business Ombudsman was authorized and funded by the fiscal year 1999 VA/HUD & Independent Agencies Appropriations Act to award grants or cooperative agreements to “Strengthen State Small Business Ombudsman (SBO) and State Technical Assistance Programs (SBAP) Created Under Section 507 of The Clean Air Act Amendments.” The ultimate objective of these awards is to make improvements and strengthen these programs. The Congress further emphasized the important role these programs can play in promoting small business compliance with emission limitations set under State Implementation Plans to attain National Ambient Air Quality Standards. Under the Congressional mandate, EPA must report on “the grants (cooperative agreements), their use and effectiveness,” and also provide Congress with an estimate of emission reductions achieved by these projects more generally. Thus, through a competitive process, ten (10) State cooperative agreement awardees are required to measure the results/impacts of their innovative developmental work and outreach efforts. In order to do this, some, but not all, awardees will need to solicit information from the small business community that voluntarily use these programs. This information will be confidential. This is a “generic” information request (ICR) to enable some of the 10 State SBO or SBAP Programs to collect information on the results/effectiveness of their projects so that the States and EPA can better understand which types of outreach were most effective. State SBOs/SBAPs and EPA are interested in judging the results of various measurement methods such as via comment/response cards, on-site interviews, mailed/Internet-surveys/on-site questionnaires and, telephone surveys.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on 04/18/00 (FR Vol. 65, No. 75); pages 20819-20. No comments were received.

EPA would like to again solicit comments to:

(i) Evaluate whether the proposed collection of information is necessary for the proper performance of the functions of the agency, including whether the information will have practical utility;

(ii) Evaluate the accuracy of the agency's estimate of the burden proposed for the collection of information, including the validity of the methodology and assumptions used;

(iii) Enhance the quality, utility, and clarity of future information to be collected; and

(iv) Minimize the burden of the collection of information on those who are responding, including through the use of appropriate automated electronic, mechanical, or other technological collection techniques or other forms of information technology, e.g., permitting electronic submission of responses.

Burden Statement: The annual public reporting and recordkeeping burden for this collection is estimated to average 1.1 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjusting the existing ways to comply with any previously applicable instructions and requirements; train personnel to be able to respond to a collection of information; search data sources; complete and review the collection of information; and transmit or otherwise disclose the information.

Respondents/Affected Entities: Owners and operators within the water heater and boiler manufacturing industry, reinforced plastics and boat manufacturing industry, gasoline dispensing sites and transport vehicles, auto repair and salvage yards, and others.

Respondents/Affected Entities: 3,900.

Estimated Number of Respondents: 3,900.

Frequency of Response: once per respondent.

Estimated Total Annual Hour Burden: 4,200.

Estimated Total Annualized & Capital Cost Burden: 0.

Send comments on the Agency's need for this information, the accuracy of the provided burden estimates, and any suggested methods for minimizing respondent burden, including through the use of automated collection techniques to the following addresses. Please refer to EPA ICR No. 1958.01 in any correspondence.

Dated: August 28, 2000.
Oscar Morales,
Director, Collection Strategies Division.

[FR Doc. 00-22524 Filed 8-31-00; 8:45 am]

BILLING CODE 6560-50-P